DEPARTMENT OF TRANSPORTATION

Federal Aviation Administration

14 CFR Part 39

[Docket No. 2000-NM-124-AD]

RIN 2120-AA64

Airworthiness Directives; Airbus Model A310 and Model A300-600 Series Airplanes

AGENCY: Federal Aviation Administration, DOT.

ACTION: Notice of proposed rulemaking (NPRM).

SUMMARY: This document proposes the adoption of a new airworthiness directive (AD) that is applicable to all Airbus Model A310 and A300-600 series airplanes. This proposal would require revising the Airplane Flight Manual. This action is necessary to provide the flight crew with procedures to maintain airplane controllability in the event of an in-flight thrust reverser deployment. This action is intended to address the identified unsafe condition.

DATES: Comments must be received by December 28, 2000.

ADDRESSES: Submit comments in triplicate to the Federal Aviation Administration (FAA), Transport Airplane Directorate, ANM-114, Attention: Rules Docket No. 2000-NM-124-AD, 1601 Lind Avenue, SW., Renton, Washington 98055-4056. Comments may be inspected at this location between 9:00 a.m. and 3:00 p.m., Monday through Friday, except Federal holidays. Comments may also be sent via the Internet using the following address: 9-anm-nprmcomment@faa.gov. Comments sent via the Internet must contain “Docket No. 2000-NM-124-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket 2000-NM-124-AD.” The postcard will be date stamped and returned to the commenter.

Availability of NPRMs

Any person may obtain a copy of this NPRM by submitting a request to the FAA, Transport Airplane Directorate, ANM-114, Attention: Rules Docket No. 2000-NM-124-AD, 1601 Lind Avenue, SW., Renton, Washington 98055-4056.

Discussion

The Direction Générale de l'Aviation Civile (DGAC), which is the airworthiness authority for France, has advised the FAA that certain procedures have been revised in the Airplane Flight Manual (AFM) for Airbus Model A310 and A300-600 series airplanes. In the event of an in-flight thrust reverser deployment, the existing “ENG REV UNLK” procedure could result in reduced controllability of the airplane. The revised procedures are intended to address this problem.

The FAA has approved the following revisions to Section 4.02.00 of the Airbus AFM's for Model A310 and A300-600 series airplanes powered by Pratt & Whitney and General Electric engines:

Model/Series | Reference | Date
A310-203, -221, -222, and -304 | Ref. 02 | November 23, 1999.
A310-324 and -325 | Ref. 04 | November 24, 1999.
A300-600 B4-605R | Ref. 02 | November 23, 1999.
A300-600 F4-605R | Ref. 05 | November 24, 1999.
A300-600 B4-622R | Ref. 06 | November 25, 1999.

Related AD

The FAA has issued a related AD, AD 99-18-19, amendment 39-11285 (64 FR 48277, September 3, 1999), which is applicable to certain General Electric engines installed on Airbus Model A310 and A300-600 series airplanes. Among other things, that AD requires, at paragraph (g), an AFM revision similar to that proposed in this notice of proposed rulemaking (NPRM). The FAA may consider further rulemaking to remove the AFM revision requirement of paragraph (g) of AD 99-18-19. The FAA can more adequately address the identified unsafe condition by incorporating that requirement into this proposed AD, which is directed to airplanes rather than engines, and by including all Airbus Model A310 and A300-600 series airplanes powered by Pratt & Whitney and General Electric engines in the applicability of this proposed AD.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require revising the AFM to provide the flight crew with procedures to maintain airplane controllability in the event of an in-flight thrust reverser deployment.

Cost Impact

The FAA estimates that 116 airplanes of U.S. registry would be affected by this proposed AD. It would take approximately 1 work hour per airplane to do the actions, at an average labor rate of $60 per work hour. Based on these figures, the cost impact of the proposed AD on U.S. operators is estimated to be $6,960, or $60 per airplane.

The cost impact figure discussed above is based on assumptions that no operator has yet accomplished any of the proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie Docket 2000-NM-124-AD.

Applicability: All Model A310 and Model A300-600 series airplanes; certificated in any category.

Compliance: Required as indicated, unless accomplished previously.

To maintain airplane controllability in the event of an in-flight thrust reverser deployment, accomplish the following:

Revisions to the Airplane Flight Manual (AFM)

(a) Within 30 days after the effective date of this AD, revise the Limitations and Emergency Procedures Sections of the FAA-approved AFM by inserting the following references into Section 4.02.00 of the applicable AFM.

Model/Series | Reference | Date
Airbus A310 AFM:
A310-203, -221, -222, and -304 | Ref. 02 | November 23, 1999.
A310-324 and -325 | Ref. 04 | November 24, 1999.
Airbus A300-600 AFM:
A300-600 B4-605R | Ref. 02 | November 23, 1999.
A300-600 F4-605R | Ref. 05 | November 24, 1999.
A300-600 B4-622R | Ref. 06 | November 25, 1999.

(b) After the AFM is revised as required by paragraph (a) of this AD, the AFM revision for Airbus Model A310 and A300-600 series airplanes powered by certain General Electric engines, as required by paragraph (g) of AD 99-18-19, amendment 39-11285, may be removed.

Alternative Methods of Compliance

(c) An alternative method of compliance or adjustment of the compliance time that provides an acceptable level of safety may be used if approved by the Manager, International Branch, ANM-116, FAA, Transport Airplane Directorate. Operators shall submit their requests through an appropriate FAA Principal Operations Inspector, who may add comments and then send it to the Manager, International Branch, ANM-116.

Note 1: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Issued in Renton, Washington, on November 21, 2000.
Donald L. Riggin,
Acting Manager, Transport Airplane Directorate, Aircraft Certification Service.

[FR Doc. 00-30321 Filed 11-27-00; 8:45 am]

BILLING CODE 4910-13-P